FEDERAL COMMUNICATIONS COMMISSION

47 CFR Part 73

[DA 01-563; MM Docket No. 01-62; RM-10053]

Radio Broadcasting Services; Ardmore, Brilliant, Gadsden, Moundville, Pleasant Grove, Scottsboro, Trussville, Tuscaloosa and Winfield, AL; Columbus and Okolona, MS; and McMinnville, Pulaski and Walden, TN

AGENCY: Federal Communications Commission (FCC).

ACTION: Proposed rule.

SUMMARY: This document requests comment on a Petition for Rule Making filed jointly on behalf of Capstar TX Limited Partnership and Jacor Licensee of Louisville ll, Inc. This document proposes the substitution of Channel 288C3 for Channel 290A at Trussville, Alabama, reallotment of Channel 288C3 to Pleasant Grove, Alabama, and modification of the Station WENN license to specify operation on Channel 288C3 at Pleasant Grove; the substitution of Channel 290A for Channel 288A at Tuscaloosa, Alabama, reallotment of Channel 290A to Moundville, Alabama, and modification of the Station WRTR license to specify operation on Channel 290A at Moundville; the reallotment of Channel 290A from Winfield, Alabama, to Brilliant, Alabama, and modification of the Station WKXM license to specify Brilliant as the community of license; the reallotment of Channel 279C1 from Gadsden, Alabama, to Trussville, Alabama, and modification of the Station WQEN license to specify Trussville as the community of license; the reallotment of Channel 280C2 from Columbus, Mississippi, to Okolona, Mississippi, and modification of the Station WACR license to specify Okolona as the community of license; the substitution of Channel 252C1 for Channel 252A at Pulaski, Tennessee, reallotment of Channel 252C1 to Ardmore, Alabama, and modification of the Station WKSR license to specify operation on Channel 252C1 at Ardmore; the substitution of Channel 278A for Channel 252A at Scottsboro, Alabama, and modification of the Station WKEA license to specify operation on Channel 278A; and the substitution of Channel 279C1 for Channel 280A at McMinnville, Tennessee, reallotment of Channel 279C3 to Walden, Tennessee, and modification of the Station WKEA license to specify operation on Channel 279C3 at Walden. The coordinates for the Channel 279C1 allotment at Trussville, Alabama, would be 33-26-38 and 86 52-47; the coordinates for Channel 288C3 allotment at Pleasant Grove, Alabama, would be 33-26-38 and 86-52-47; the coordinates for the Channel 280C2 allotment at Okolona, Mississippi, would be 33-51-38 and 88-30-44; the coordinates for the Channel 252C1 allotment at Ardmore, Alabama, would be 34-56-27 and 86-48-15; the coordinates for the Channel 279C3 allotment at Walden, Tennessee, would be 35-14-32 and 85 22-17; the coordinates for the Channel 290A allotment at Moundville, Alabama, would be 33-00-03 and 87-34-20; the coordinates for the Channel 278A allotment at Scottsboro, Alabama, would be 34-35-22 and 85-59-31; and the coordinates for the Channel 290A allotment at Brilliant, Alabama, would be 34-01 25 and 87-46-17.

DATES: Comments must be filed on or before April 24, 2001, and reply comments on or before May 9, 2001.

ADDRESSES: Secretary, Federal Communications Commission, Washington, DC, 20554.

In addition to filing comments with the FCC, interested parties should serve the petitioner's counsel, as follows: Mark N. Lipp, c/o Shook, Hardy & Bacon, 600 14th Street, NW, Suite 800, Washington, DC, 20005; and Gregory L. Masters, c/o Wiley, Rein & Fielding, 1776 K Street, NW, Washington, D.C. 20006.

FOR FURTHER INFORMATION CONTACT: Robert Hayne, Mass Media Bureau (202) 418-2177

SUPPLEMENTARY INFORMATION: This is a synopsis of the Commission's Notice of Proposed Rule Making in MM Docket No. 01-62, adopted February 28, 2001, and released March 2, 2001. The full text of this Commission action is available for inspection and copying during normal business hours in the FCC Reference Information Center at Portals II, CY-A257, 445 12th Street, SW, Washington, DC. The complete text of this action may also be purchased from the Commission's copy contractor, International Transcription Service, Inc., (202) 857-3800, 1231 20th Street, Washington, DC. 20036. Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

List of Subjects in 47 CFR Part 73

Radio Broadcasting.

Federal Communications Commission.
John A. Karousos,
Chief, Allocations Branch, Policy and Rules Division, Mass Media Bureau.

[FR Doc. 01-6244 Filed 3-13-01; 8:45 am]

BILLING CODE 6712-01-P